DEPARTMENT OF COMMERCE

National Oceanic and Atmospheric Administration

[I.D. 032201C]

Western Pacific Fishery Management Council; Public Meeting

AGENCY: National Marine Fisheries Service (NMFS), National Oceanic and Atmospheric Administration (NOAA), Commerce.

ACTION: Notice of public meetings.

SUMMARY: The Western Pacific Fishery Management Council (Council) will hold a meeting of its Hawaii members of the Commercial, Recreational, Subsistence/Indigenous, and Ecosystem and Habitat Advisory Panels (Hawaii AP), in Honolulu, HI. The Council will also hold a meeting of its Bottomfish Plan Team (BPT), in Honolulu, HI.

DATES: The meeting of the Hawaii AP will be held on April 13, 2001, from 9 a.m. to 5 p.m.. The BTP will be held on April 17 and 18, 2001, from 8:30 a.m. to 5 p.m., each day.

ADDRESSES: The Hawaii AP and BPT will be held at the Council Office Conference Room, Western Pacific Fishery Management Council, 1164 Bishop St., Suite 1400, Honolulu, HI 96813; telephone: 808-522-8220.

FOR FURTHER INFORMATION CONTACT: Kitty M. Simonds, Executive Director; telephone: 808-522-8220.

SUPPLEMENTARY INFORMATION: On April 13, 2001, the Hawaii Advisory Panel members will meet to discuss fishery issues of concern in Hawaii, brief new advisors on Council issues and identify agenda items for a full Advisory Panel meeting to be held in June, 2001.

Friday, April 13, 2001

The agenda for the Hawaii Advisory Panel meeting will include the items listed below:

1. Introduction;

2. Orientation including overview of the Magnuson Stevens Act, Council decision making process and fishery management plans (FMPs);

3. Summary of current fishery issues including, but not limited to, the Council’s FMPs, draft environmental impact statements, biological opinions, indigenous initiatives, coral reef fishery management, and other issues affecting the management of fisheries in the Western Pacific Region;

4. Discussion of Hawaii local fishery issues;

5. Recommended agenda items for full Advisory Panel meeting to be held in June 2001;

6. Outreach efforts including supporting fishermen’s forums in each island area and Council participation in organized public events; and

7. Other issues.

Tuesday, April 17, 2001

The BPT will meet to discuss the following agenda items:

1. Introduction;

2. Annual Report review;

a. Review Status of 1999 Annual Report Recommendations

b. Identify problems and possible solutions for uncompleted recommendations

c. Review 2000 Annual Report modules and recommendations

American Samoa

Guam

Hawaii

Northern Mariana Islands

d. 1999 Annual Report region-wide recommendations

3. Review Northwestern Hawaiian Islands Coral Reef Reserve conservation measures for bottomfish; and

a. Measures

b. Impacts from closures

c. Discussion and recommendations

4. Status of pending amendments/framework adjustments;

a. Addition of Commonwealth of the Northern Mariana Islands (CNMI) and Pacific Remote Island Areas to Bottomfish FMP

b. Mau Zone new entry criteria

Wednesday, April 18, 2001

1. Bottomfish Draft Environmental Impact Statement (DEIS);

a. Review alternatives and findings

b. Comments on DEIS

c. Discussion and recommendations

2. Status of Biological Opinion;

3. Monk Seals;

a. Status of Litigation

b. Recommendations from the Hawaiian Monk Seal Recovery Team

c. Proposed methods to avoid interactions with Hawaiian Monk Seals

d. Discussion and recommendations

4. Observer Program

a. NMFS plan for observer coverage

b. Council recommendation regarding observers from 108th meeting

c. New technology options to monitor bottomfish vessels and policy needs

d. Discussion and recommendations

5. Research priorities for Western Pacific Region bottomfish fisheries; and

a. Bottomfish research needs

i. American Samoa

ii. Guam

iii. Hawaii

iv. CNMI

b. Prioritize research needs and recommendations

6. Other Business.

The order in which the agenda items are addressed may change. The Hawaii AP and BPT will meet as late as necessary to complete scheduled business.

Although non-emergency issues not contained in this agenda may come before the Hawaii AP and BPT for discussion, those issues may not be the subject of formal action during these meetings. Advisory Panel and Plan Team action will be restricted to those issues specifically listed in this document and any issue arising after publication of this document that requires emergency action under section 305(c) of the Magnuson-Stevens Fishery Conservation and Management Act, provided the public has been notified of the Council’s intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 23, 2001.
Richard W. Surdi,
Acting Director, Office of Sustainable Fisheries, National Marine Fisheries Service.

[FR Doc. 01-7681 Filed 3-28-01; 8:45 am]

BILLING CODE 3510-22-S